DEPARTMENT OF HOMELAND SECURITY

Coast Guard

[Docket No. USCG-2011-0351]

Consolidated Port Approaches Port Access Route Studies (CPAPARS) Final Notice

AGENCY: Coast Guard, DHS.

ACTION: Notification.

SUMMARY: The Coast Guard published a document on March 10, 2023, that announced the availability of the final Consolidated Port Approaches Port Access Route Studies. In addition, the Coast Guard requested comments concerning the final report. After a review of the comments received, the Coast Guard has determined that it is not necessary to revise the final report, and therefore considers it to be complete as published.

FOR FURTHER INFORMATION CONTACT: For information about this document call or email Maureen Kallgren, Coast Guard; telephone 202-372-1561, email maureen.r.kallgren2@uscg.mil.

SUPPLEMENTARY INFORMATION:

Background and Purpose

On April 5, 2017, the Coast Guard announced the completion of the Atlantic Coast Port Access Route Study in the Federal Register (82 FR 16510), which is available for viewing and download from the Coast Guard Navigation Center's website at https://www.navcen.uscg.gov/port-access-route-studies.

The ACPARS identified navigation safety corridors along the Atlantic Coast based on the predominant two-way vessel traffic and customary routes confirmed with AIS data for offshore deep draft and coastal seagoing tug/tow vessels. The study recommended using these corridor locations to establish shipping safety fairways or other appropriate vessel routing measures.

Recognizing the ACPARS only analyzed coastal, longshore, and predominantly north/south vessel transit routes along the Atlantic Coast, the Coast Guard announced new studies focused on port approaches and international entry and departure areas along the Atlantic Coast to supplement the ACPARS on March 15, 2019 (84 FR 9541). On September 9, 2022, the Coast Guard announced the availability of the Consolidated Port Approaches and International Entry and Departure Transit Areas Port Access Route Studies, (CPAPARS) (87 FR 55449). The CPAPARS summarizes the findings of four regional port access route studies: the Northern New York Bight; Seacoast of New Jersey Including Offshore Approaches to the Delaware Bay, Delaware; Approaches to the Chesapeake Bay, Virginia; and the Seacoast of North Carolina; as well as ongoing dialogue with the maritime industry.

To provide continued engagement with stakeholders, the Coast Guard announced the availability of an updated CPAPARS report and provided a ninety-day comment period (88 FR 15055).

Discussion of Comments

Comments were submitted by representatives of the maritime community, wind energy developers, a state government agency, and private citizens.

Most comments were concerned with the recommended shipping safety fairways' proximity to and impact on potential offshore wind energy areas. To address these concerns, the Coast Guard has been working extensively with the Bureau of Ocean Energy management (BOEM) throughout the development of the incoming Notice of Proposed Rulemaking (NPRM) proposing fairways along the Atlantic Coast.¹ The forthcoming NPRM will outline the adjustments that have been made to the fairway dimensions and the work we have done with BOEM to identify and resolve any conflicts.

¹ https://www.reginfo.gov/public/do/eAgendaViewRule?pubId=202204&RIN=1625-AC57. Last visited July 20, 2023.

One commenter urged the Coast Guard to consider underwater cables when designing the fairways. We have considered all known underwater cables and their potential impacts on the proposed fairways, TSS, and precautionary areas. None were found to restrict, endanger, or interfere with navigation.

Another commenter asked us to consider the impacts on the fairways on the White House's offshore wind development goals. We do, and we believe that these goals are best served by the establishment of consistent and well-defined fairways.

One commenter recommended that the Coast Guard coordinate with the Department of Defense to ensure that the fairways would have no impact on national security. We have and will continue to do so throughout the fairway establishment process.

One commenter requested that the Coast Guard acknowledge that vessels in the U.S. EEZ are permitted to navigate through wind farms in contrast to Europe, where vessels must avoid wind energy areas wholesale. We acknowledge this but believe that protecting these wind energy areas from the hazards associated with navigating vessels is the best way to help The White House achieve its renewable energy goals.

One commenter believed that the PARS methodology could be improved using a more granular approach and challenged the Coast Guard's use of the World Association for Waterborne Transport Infrastructure (PIANC) methodology. The USCG uses the PIANC as a starting place to determine widths for historic shipping routes. Marine planners review and adjust the widths based on input from stakeholders, AIS data sets broken down by ship type, and through collaboration with other ocean users (e.g., renewable energy lessees). The final fairway widths are finalized based on this collaboration among all parties to ensure safe and equitable design of fairways on the OCS.

This commenter also requested an explanation for the variability in fairway width. The fairways vary in width because they have been intentionally designed to accommodate OCS development. The fairways have been designed in coordination with BOEM and the relevant stakeholders and the variability is a result of this coordination.

This notice is being issued under authority located in 5 U.S.C. 552(a) as well as 46 U.S.C. 70003.

The Coast Guard.
Dated: August 21, 2023.
Michael D. Emerson,
Director, Marine Transportation Systems, U.S. Coast Guard.

[FR Doc. 2023-18444 Filed 8-25-23; 8:45 am]

BILLING CODE 9110-04-P